NUCLEAR REGULATORY COMMISSION

[NRC-2012-0057]

Bioassay at Uranium Mills

AGENCY: Nuclear Regulatory Commission.

ACTION: Regulatory guide; issuance.

SUMMARY: The U.S. Nuclear Regulatory Commission (NRC) is issuing a revision to Regulatory Guide (RG) 8.22, “Bioassay at Uranium Mills.” This guide describes a bioassay program acceptable to the NRC staff for uranium mills and applicable portions of uranium conversion facilities where the possibility of exposure to yellowcake dust exists.

ADDRESSES: Please refer to Docket ID NRC-2012-0057 when contacting the NRC about the availability of information regarding this document. You may access publicly-available information related to this action by the following methods:

• Federal Rulemaking Web site: Go to http://www.regulations.gov and search for Docket ID NRC-2012-0057. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of RG 8.22 is available in ADAMS under Accession No. ML13350A638. The regulatory analysis may be found in ADAMS under Accession No. ML110960341.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Harriet Karagiannis, telephone: 301-251-7477, email: Harriet.Karagiannis@nrc.gov; or Casper Sun, telephone: 301-251-7912; email: Casper.Sun@nrc.gov. Both of the Office of Nuclear Regulatory Research, U.S. Nuclear Regulatory Commission, Washington, DC 20555-0001.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

The NRC issued Revision 2 of RG 8.22 for public comment with a temporary identification as draft regulatory guide (DG), DG-8051. This guide describes a method that the NRC staff considers acceptable for complying with the Commission's regulations concerning bioassay at uranium mills. It provides methods that the NRC staff considers acceptable to implement Part 20 of Title 10 of the Code of Federal Regulations, (10 CFR), “Standards for Protection Against Radiation.”

II. Additional Information

Draft Regulatory Guide, DG-8051, was published in the Federal Register on March 13, 2012 (77 FRN 14837), for a 60-day public comment period. The public comment period closed on May 11, 2012. Public comments on DG-8051 and the NRC staff's responses to the public comments are available in ADAMS under Accession No. ML13350A639.

The NRC revised this guide for a better alignment with: (1) 10 CFR Part 20; (2) the internal dose assessment recommended by the International Commission on Radiological Protection (ICRP), Publication 30, “Limits for Intakes of Radionuclides by Workers”; and (3) the recommended bioassay interpretation method by ICRP Publication 54, “Individual Monitoring for Intakes of Radionuclides by Workers: Design and Interpretation.”

Regulatory Guide, 8.22, Revision 2 also provides: (1) Recommendations based on the nephrotoxic analyses in NUREG-0874, “Internal Dosimetry Model for Applications to Bioassay at Uranium Mills,” (Appendix A of the guide); and (2) the consensus standard of the American National Standards Institute/Health Physics Society (ANSI/HPS) N13.30-2011, “Performance Criteria for Radiobioassay,” that is applicable for uranium mills.

III. Congressional Review Act

This RG is a rule as defined in the Congressional Review Act (5 U.S.C. 801-808). However, the Office of Management and Budget has not found it to be a major rule as defined in the Congressional Review Act.

IV. Backfitting and Issue Finality

Issuance of this final RG does not constitute backfitting as defined in 10 CFR 50.109, 70.76, 72.62, or 76.76 and is not otherwise inconsistent with the issue finality provisions in 10 CFR Part 52, “Licenses, Certifications, and Approvals for Nuclear Power Plants.” This final RG provides guidance to applicants for, and holders of, uranium milling licenses and some uranium conversion facility licenses on methods for meeting certain NRC regulatory requirements for bioassays in 10 CFR Part 20.

Licensees may voluntarily use RG 8.22, Revision 2 to demonstrate compliance with the underlying NRC's regulations.

Dated at Rockville, Maryland, this 17th day of June, 2014.
For the Nuclear Regulatory Commission.
Thomas H. Boyce,
Chief, Regulatory Guidance and Generic Issues Branch, Division of Engineering, Office of Nuclear Regulatory Research.

[FR Doc. 2014-14452 Filed 6-19-14; 8:45 am]

BILLING CODE 7590-01-P